OFFICE OF MANAGEMENT AND BUDGET

Public Availability of Year 2000 Agency Inventories Under the Federal Activities Inventory Reform Act of 1998 (Public Law 105-270) (“FAIR Act”)

AGENCY: Office of Management and Budget, Executive Office of the President.

ACTION: Notice of Public Availability of Commercial Activities Inventories.

SUMMARY: Year 2000 FAIR Act Commercial Activities Inventories are now available to the public from the agencies listed below. The Office of Federal Procurement Policy has prepared and is making available a summary FAIR Act User's Guide through its Internet site: http://www.whitehouse.gov/OMB/procurement/index.html. This User's Guide will help interested parties review Year 2000 FAIR Act inventories, and will also include the web-site addresses to access agency inventories.

The “Federal Activities Inventory Reform Act of 1998” (Public Law 105-270) (“FAIR Act”) requires that OMB publish an announcement of public availability of agency Commercial Activities Inventories upon completion of OMB's review and consultation process concerning the content of the agencies' inventory submissions. OMB has completed this process for the agencies listed below. Further announcements will be published as OMB and the agencies complete their review and consultation process.

The attached Commercial Activities Inventories are now available.

Jacob J. Lew,
Director.

Attachment

Agency | Contact
Advisory Council on Historic Preservation | Carol McLain, 202-606-8511, Website: www.Achp.gov.
| More information contact: Sharon Conway, 202-606-8648, For challenges and appeals contact: Carol McLain.
Broadcasting Board of Governors | Dennis Sokol, 202-619-3988, Website: www.ibb.gov/fairact, Can provide hard copy if needed.
Chemical Safety Board | Phylliis Thompson, 202-261-7600, Website: www.csb.gov.
| More information contact: Faye Gibbons 202-261-7600.
Environmental Protection Agency | George Ames, 202-564-4998, Website: www.epa.gov/efinpage (Whats News).
Environmental Protection Agency | John Jones, 202-260-3137, Website: www.epa.gov/oigearth.
Equal Employment Opportunity Commission | Allan fisher, 202-663-4200
| More information contact: George Betters, 202-663-4266, For Challenges and Appeals contact: George Betters and legal counsel.
Federal Labor Relations Authority | Harold D. Kessler, 202-482-6690 ext. 440, Website: www.flra.gov.
Federal Medication and Conciliation Service | George Buckingham 202-606-8100, Website: www.fmcs.gov.
Federal Mine Safety and Health Review Commission | Richard Baker, 202-653-5625, Website: www.fmshrc.gov.
Holocaust Memorial Council and Museum | Jay Gaglione, 202-314-0336, Website: Ushmm.org.
Merit Systems Protection Board | Douglas Wade, 202-653-6772, Website: www.mspb.gov.
National Aeronautics and Space Administration | Timothy Sullivan, 202-358-2215, Website: www.HQ.NASA.gov/fair/.
National Gallery of Art | Bill Roache, 202-842-6329, Website: www.nga.gov.
National Labor Relations Board | Harding Darden, 202-273-3970, Website: www.nlrb.gov.
National Mediation Board | June King, 202-692-5010, Website: www.nmb.gov.
National Science Foundation | Gary Scavongelli, 703-292-8102, Website: www.nsf.gov/cgi-bin/getpub?od001.
Occupational Safety & Health Review Commission | Ledia Bernal, 202-606-5390, Website: www.oshrc.gov.
Office of Federal Housing Enterprise Oversight | Linda Gwinn, 202-414-3789, Website: www.ofago.gov.
Office of Government Ethics | Sean Donohue, 202-208-8000, ext. 1217, Website: www.usoge.gov.
Office of Management and Budget | Brian Gillis, 202-395-7250, Website: www.whitehouse.gov/OMB/procrement.
Office of National Drug Control Policy | Tilman Dean, 202-395-6722, Website: www.whitehousedrugpolicy.org. More information contact: Tilman Dean and General Counsel.
Office of Personnel Management | Kenneth McMahill, 202-606-2494, Website: www.opm.gov/procure.
Office of Science & Technology Policy | Barbara Ferguson, 202-456-6001, Website: www.ostp.gov (Inside OSTP).
Office of the Special Counsel | Jane McFarland, 202-653-9001, Website: www.ics.si.edu.
Department of Veterans Affairs | John O'Hara, 202-273-5068, Website: www.va.gov e-mail: fairact@mail.va.gov, fax: 202-273-5991.
Woodrow Wilson Center | Ms. Ronnie Dempsey, 202-691-4216.

[FR Doc. 00-25344 Filed 10-2-00; 8:45 am]

BILLING CODE 3110-01-P